DEPARTMENT OF TRANSPORTATION

Pipeline and Hazardous Materials Safety Administration

[Docket No: PHMSA-2023-0076]

Pipeline Safety: Information Collection Activities

AGENCY: Pipeline and Hazardous Materials Safety Administration (PHMSA), DOT.

ACTION: Notice and request for comments.

SUMMARY: In compliance with the Paperwork Reduction Act of 1995, this notice announces that the six information collection requests abstracted below are being forwarded to the Office of Management and Budget (OMB) for review and comment. A Federal Register notice with a 60-day comment period soliciting comments on the information collections was published on November 6, 2023.

DATES: Interested persons are invited to submit comments on or before March 18, 2024.

ADDRESSES: The public is invited to submit comments regarding these information collection requests, including suggestions for reducing the burden, to Office of Management and Budget (OMB), Attention: Desk Officer for the Office of the Secretary of Transportation, 725 17th Street NW, Washington, DC 20503. Comments can also be submitted electronically at www.reginfo.gov/public/do/PRAMain.

FOR FURTHER INFORMATION CONTACT: Angela Hill by telephone at 202-680-2034 or by email at angela.hill@dot.gov.

SUPPLEMENTARY INFORMATION:

I. Background

Title 5, Code of Federal Regulations § 1320.8(d), requires the Pipeline and Hazardous Materials Safety Administration (PHMSA) to provide interested members of the public and affected agencies the opportunity to comment on information collection and recordkeeping requests before they are submitted to OMB for approval. In accordance with this regulation, on November 6, 2023, PHMSA published a Federal Register notice (88 FR 76270) with a 60-day comment period soliciting comments on its intent to request OMB's renewed approval of several information collection requests that are due to expire in 2024.

During the 60-day comment period, PHMSA received one comment from National Propane Gas Association on a matter not pertaining to the proposed renewal of the impacted information collections.

II. Summary of Impacted Collections

Section 1320.8(d), Title 5, Code of Federal Regulations, requires PHMSA to provide interested members of the public and affected entities an opportunity to comment on information collection and recordkeeping requests. PHMSA will request a three-year term of approval for each of the following information collection activities.

The following information is provided for each information collection: (1) Title of the information collection; (2) OMB control number; (3) Current expiration date; (4) Type of request; (5) Abstract of the information collection activity; (6) Description of affected public; (7) Estimate of total annual reporting and recordkeeping burden; and (8) Frequency of collection.

PHMSA requests comments on the following:

1. Title: Pipeline Safety: Integrity Management Program for Gas Distribution Pipelines.

OMB Control Number: 2137-0625.

Current Expiration Date: 5/31/2024.

Type of Request: Renewal with no change of a currently approved collection.

Abstract: The Federal Pipeline Safety Regulations require operators of gas distribution pipelines to develop and implement integrity management (IM) programs. The purpose of these programs is to enhance safety by identifying and reducing pipeline integrity risks. PHMSA requires that operators maintain records demonstrating compliance with these requirements for 10 years and that these records must include superseded IM plans.

Affected Public: Operators of gas distribution pipeline systems.

Annual Reporting and Recordkeeping Burden:

Estimated Number of Responses: 3,882.

Estimated Annual Burden Hours: 723,192.

Frequency of Collection: On occasion.

2. Title: Post-Accident Drug Testing for Pipeline Operators.

OMB Control Number: 2137-0632.

Current Expiration Date: 8/31/2024.

Type of Request: Renewal with no change of a currently approved information collection.

Abstract: Pursuant to 49 CFR 199.227, operators are required to maintain records of its alcohol misuse prevention program. The post-accident drug testing for pipeline operators information collection pertains specifically to 49 CFR 199.227(b)(4), that requires operators to maintain records of decisions not to administer post-accident employee alcohol tests for a minimum of three years. Operators must make those records available to PHMSA upon request.

Affected Public: Operators of PHMSA-regulated pipelines.

Annual Reporting and Recordkeeping Burden:

Total Annual Responses: 609.

Total Annual Burden Hours: 1,218.

Frequency of Collection: On occasion.

3. Title: Recordkeeping Requirements for Liquefied Natural Gas Facilities.

OMB Control Number: 2137-0048.

Current Expiration Date: 11/30/2024.

Type of Request: Renewal with no change of a currently approved information collection.

Abstract: Pursuant to the Federal Pipeline Safety Regulations, liquefied natural gas facility operators are required to maintain records, make reports, and provide information regarding their liquefied natural gas facilities to PHMSA upon request.

Affected Public: Operators of liquefied natural gas facilities.

Annual Reporting and Recordkeeping Burden:

Estimated Number of Responses: 40,400.

Estimated Annual Burden Hours: 12,120.

Frequency of Collection: On occasion.

4. Title: Customer-Owned Service Lines.

OMB Control Number: 2137-0594.

Current Expiration Date: 11/30/2024.

Type of Request: Renewal with no change of a currently approved information collection.

Abstract: Pursuant to 49 CFR 192.16, operators of gas service lines who do not maintain their customers' buried piping between service lines and building walls or gas utilization equipment are required to send written notices to their customers prescribing the proper maintenance of these gas lines and of the potential hazards of not properly maintaining these gas lines. Operators also must maintain records that include a copy of the notice currently in use and evidence that notices were sent to customers within the previous three years. The purpose of the collection is to provide PHMSA with adequate information about how customer-owned service lines are being maintained to prevent the potential hazards associated with not maintaining the lines. Examples of sufficient notification include a prepared notification with the customer's bill.

Affected Public: State and local governments.

Annual Reporting and Recordkeeping Burden:

Estimated Number of Responses: 550,000.

Estimated Annual Burden Hours: 9,167.

Frequency of Collection: On occasion.

5. Title: Periodic Underwater Inspection and Notification of Abandoned Underwater Pipelines.

OMB Control Number: 2137-0618.

Current Expiration Date: 11/30/2024.

Type of Request: Renewal with no change of a currently approved information collection.

Abstract: The Federal Pipeline Safety Regulations at 49 CFR 192.612 and 49 CFR 195.413 require operators of pipelines in the Gulf of Mexico and its inlets in waters less than 15 feet (4.6 meters) deep to conduct periodic underwater inspections to determine whether the pipelines are exposed underwater pipelines or pose a hazard to navigation. If an operator discovers that its underwater pipeline is exposed or poses a hazard to navigation, among other remedial actions, the operator must contact the National Response Center by telephone within 24 hours of discovery and report the location of the exposed pipeline or hazardous pipeline.

PHMSA's regulations for reporting the abandonment of underwater pipelines can be found at 49 CFR 192.727 and 49 CFR 195.59. These provisions contain certain requirements for disconnecting and purging abandoned pipelines and require operators to notify PHMSA of each abandoned offshore pipeline facility and each abandoned onshore pipeline facility that crosses over, under, or through a commercially navigable waterway.

Affected Public: Operators of pipeline facilities.

Annual Reporting and Recordkeeping Burden:

Estimated Number of Responses: 92.

Estimated Annual Burden Hours: 1,372.

Frequency of Collection: On occasion.

6. Title: Recordkeeping for Underground Natural Gas Storage Facilities.

OMB Control Number: 2137-0634.

Current Expiration Date: 11/30/2024.

Type of Request: Renewal with no change of a currently approved information collection.

Abstract: The Federal Pipeline Safety Regulations at 49 CFR 192.12 require operators of underground natural gas storage facilities to maintain documentation and provide information to PHMSA upon request. Examples of the required records include operations and maintenance procedures, results of required tests, records of inspections and repairs, and notifications to the public.

Affected Public: Operators of underground natural gas storage facilities.

Annual Reporting and Recordkeeping Burden:

Estimated Number of Responses: 136.

Estimated Annual Burden Hours: 220.

Frequency of Collection: On occasion.

Comments are invited on:

(a) The need for this information collections for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended, and 49 CFR 1.48.

Issued in Washington, DC, on February 7, 2024, under authority delegated in 49 CFR 1.97.
John A. Gale,
Director, Standards and Rulemaking Division.

[FR Doc. 2024-03140 Filed 2-14-24; 8:45 am]

BILLING CODE 4910-60-P